DEPARTMENT OF TRANSPORTATION

Federal Aviation Administration

14 CFR Part 97

[Docket No. 30918; Amdt. No. 3553]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 16, 2013. The compliance date for each SIAP, associated Takeoff Minimums, and ODP is specified in the amendatory provisions.

The incorporation by reference of certain publications listed in the regulations is approved by the Director of the Federal Register as of September 16, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on August 30, 2013.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 17 OCTOBER 2013

Cold Bay, AK, Cold Bay, RNAV (GPS) RWY 26, Amdt 2

Coldfoot, AK, Coldfoot, RNAV (GPS) RWY 1, Amdt 1A

Ruby, AK, Ruby, RNAV (GPS) RWY 3, Amdt 1A

Scottsboro, AL, Scottsboro Muni-Word Field, Takeoff Minimums and Obstacle DP, Amdt 1

Tuscaloosa, AL, Tuscaloosa Rgnl, VOR OR TACAN RWY 22, Amdt 14E

Oakland, CA, Metropolitan Oakland Intl, ILS OR LOC RWY 12, Amdt 7

Oakland, CA, Metropolitan Oakland Intl, ILS OR LOC RWY 30, ILS RWY 30 (CAT II), ILS RWY 30 (CAT III), ILS RWY 30 (SA CAT I), Amdt 26

Oakland, CA, Metropolitan Oakland Intl, ILS OR LOC/DME RWY 28R, Amdt 36

Oakland, CA, Metropolitan Oakland Intl, RNAV (GPS) RWY 10L, Amdt 1

Oakland, CA, Metropolitan Oakland Intl, RNAV (GPS) RWY 10R, Amdt 1

Oakland, CA, Metropolitan Oakland Intl, RNAV (GPS) Y RWY 12, Amdt 2

Oakland, CA, Metropolitan Oakland Intl, RNAV (GPS) Y RWY 28L, Amdt 3

Oakland, CA, Metropolitan Oakland Intl, RNAV (GPS) Y RWY 28R, Amdt 2

Oakland, CA, Metropolitan Oakland Intl, RNAV (GPS) Y RWY 30, Amdt 2

Oakland, CA, Metropolitan Oakland Intl, RNAV (RNP) Z RWY 12, Amdt 1

Oakland, CA, Metropolitan Oakland Intl, RNAV (RNP) Z RWY 28L, Amdt 1

Oakland, CA, Metropolitan Oakland Intl, RNAV (RNP) Z RWY 28R, Amdt 1

Oakland, CA, Metropolitan Oakland Intl, RNAV (RNP) Z RWY 30, Amdt 1

Oakland, CA, Metropolitan Oakland Intl, Takeoff Minimums and Obstacle DP, Amdt 7

Oakland, CA, Metropolitan Oakland Intl, VOR RWY 10R, Amdt 9

Oakland, CA, Metropolitan Oakland Intl, VOR/DME RWY 28L, Amdt 12

Montrose, CO, Montrose Rgnl, MONTROSE TWO, Graphic DP

Walsenburg, CO, Spanish Peaks Airfield, RNAV (GPS) RWY 9, Amdt 1

Walsenburg, CO, Spanish Peaks Airfield, RNAV (GPS) RWY 27, Amdt 1

Miami, FL, Miami Intl, RNAV (GPS) RWY 9, Amdt 1

Nampa, ID, Nampa Muni, GPS-B, Orig, CANCELED

Nampa, ID, Nampa Muni, NDB-A, Amdt 1

Nampa, ID, Nampa Muni, RNAV (GPS)-B, Orig

Twin Falls, ID, Joslin Field-Magic Valley Rgnl, ILS OR LOC RWY 26, Amdt 10

Twin Falls, ID, Joslin Field-Magic Valley Rgnl, NDB RWY 26, Amdt 7

Twin Falls, ID, Joslin Field-Magic Valley Rgnl, RNAV (GPS) RWY 8, Amdt 1

Twin Falls, ID, Joslin Field-Magic Valley Rgnl, RNAV (GPS) RWY 26, Amdt 1

Twin Falls, ID, Joslin Field-Magic Valley Rgnl, Takeoff Minimums and Obstacle DP, Amdt 3

Twin Falls, ID, Joslin Field-Magic Valley Rgnl, VOR RWY 8, Amdt 5

Twin Falls, ID, Joslin Field-Magic Valley Rgnl, VOR RWY 26, Amdt 16

Twin Falls, ID, Joslin Field-Magic Valley Rgnl, VOR/DME RWY 8, Amdt 1

Chicago, IL, Chicago O'Hare Intl, Takeoff Minimums and Obstacle DP, Amdt 19

Muncie, IN, Delaware County Rgnl, Takeoff Minimums and Obstacle DP, Amdt 4

Bowling Green, KY, Bowling Green-Warren County Rgnl, ILS OR LOC RWY 3, Amdt 1

Bowling Green, KY, Bowling Green-Warren County Rgnl, NDB RWY 3, Amdt 2

Bowling Green, KY, Bowling Green-Warren County Rgnl, RNAV (GPS) RWY 3, Amdt 1

Bowling Green, KY, Bowling Green-Warren County Rgnl, RNAV (GPS) RWY 21, Amdt 1

Rayville, LA, John H Hooks Jr Memorial, NDB RWY 36, Amdt 3, CANCELED

Tallulah/Vicksburg, MS, LA, Vicksburg Tallulah Rgnl, LOC RWY 36, Amdt 4

Tallulah/Vicksburg, MS, LA, Vicksburg Tallulah Rgnl, Takeoff Minimums and Obstacle DP, Amdt 1

Vineyard Haven, MA, Marthas Vineyard, RNAV (GPS) RWY 24, Amdt 2A

Mahnomen, MN, Mahnomen County, RNAV (GPS) RWY 17, Orig

Mahnomen, MN, Mahnomen County, RNAV (GPS) RWY 35, Orig

Mahnomen, MN, Mahnomen County, Takeoff Minimums and Obstacle DP, Orig

Charlotte, NC, Charlotte/Douglas Intl, ILS OR LOC RWY 18C, Amdt 10C

Mooresville, NC, Lake Norman Airpark, RNAV (GPS) RWY 14, Amdt 1

Alliance, NE., Alliance Muni, NDB RWY 12, Orig-A, CANCELED

Princeton/Rocky Hill, NJ, Princeton, RNAV (GPS) RWY 10, Amdt 1A

Newburgh, NY, Stewart Intl, Takeoff Minimums and Obstacle DP, Amdt 6

Niagara Falls, NY, Niagara Falls Intl, RNAV (GPS) RWY 10L, Orig

Cambridge, OH, Cambridge Muni, RNAV (GPS) RWY 4, Orig

Cambridge, OH, Cambridge Muni, RNAV (GPS) RWY 22, Orig

Cambridge, OH, Cambridge Muni, VOR-A, Amdt 4

Middlefield, OH, Geauga County, RNAV (GPS) RWY 11, Orig

Middlefield, OH, Geauga County, RNAV (GPS) RWY 29, Orig

Middlefield, OH, Geauga County, VOR-A, Amdt 6

Honesdale, PA, Cherry Ridge, VOR/DME-A, Amdt 6

Allendale, SC, Allendale County, GPS RWY 17, Orig-C, CANCELED

Allendale, SC, Allendale County, GPS RWY 35, Amdt 1B, CANCELED

Allendale, SC, Allendale County, RNAV (GPS) RWY 17, Orig

Allendale, SC, Allendale County, RNAV (GPS) RWY 35, Orig

Allendale, SC, Allendale County, Takeoff Minimums and Obstacle DP, Amdt 1

Union, SC, Union County, Troy Shelton Field, RNAV (GPS) RWY 5, Orig-A

Parkston, SD, Parkston Muni, RNAV (GPS) RWY 15, Orig

Parkston, SD, Parkston Muni, RNAV (GPS) RWY 33, Orig

Parkston, SD, Parkston Muni, Takeoff Minimums and Obstacle DP, Orig

Wagner, SD, Wagner Muni, RNAV (GPS) RWY 9, Orig

Wagner, SD, Wagner Muni, RNAV (GPS) RWY 27, Orig

Wagner, SD, Wagner Muni, Takeoff Minimums and Obstacle DP, Orig

Athens, TN, McMinn County, RNAV (GPS) RWY 2, Orig-A

Lebanon, TN, Lebanon Muni, NDB RWY 19, Amdt 1, CANCELED

Madisonville, TN, Monroe County, RNAV (GPS) RWY 5, Amdt 2A

Austin, TX, Austin-Bergstrom Intl, ILS OR LOC RWY 35L, Amdt 5A

El Paso, TX, El Paso Intl, RADAR-1, Amdt 15

Ashland, WI, John F Kennedy Memorial, LOC/DME RWY 2, Amdt 1

Effective 14 NOVEMBER 2013

Atlantic City, NJ, Atlantic City Intl, RNAV (GPS) RWY 4, Amdt 2A

[FR Doc. 2013-21901 Filed 9-13-13; 8:45 am]

BILLING CODE 4910-13-P